DEPARTMENT OF THE INTERIOR

Fish and Wildlife Service

Notice of Availability of the Second Revision of the Recovery Plan for the Red-cockaded Woodpecker (Picoides borealis)

AGENCY: Fish and Wildlife Service, Interior.

ACTION: Notice of document availability.

SUMMARY: We, the Fish and Wildlife Service, announce the availability of the second revision of the recovery plan for the red-cockaded woodpecker (Picoides borealis). The original plan was approved in 1979 and the first revision was approved in 1985. The endangered red-cockaded woodpecker is endemic to mature pine woodlands of the Southeastern United States and currently occurs in 11 States (Virginia, North Carolina, South Carolina, Georgia, Florida, Alabama, Mississippi, Louisiana, Texas, Oklahoma, and Arkansas). Intensive research has greatly increased our understanding of the ecology of red-cockaded woodpeckers and has provided powerful management tools that have been highly successful in reversing the widespread declines of past decades. With appropriate management, the species can achieve full recovery. This second revision of the recovery plan describes in detail the ecology and management of red-cockaded woodpeckers, and outlines a mechanism to recover the species based on new insight into population and species viability.

ADDRESSES: Recovery plans that have been approved by the Fish and Wildlife Service are available on the Internet at http://endangered.fws.gov/recovery/index.html. Recovery plans may also be obtained from the Fish and Wildlife Reference Service, 5430 Grosvenor Lane, Suite 110, Bethesda, Maryland 20814, telephone 301/429-6403 or 800/582-3421. The fee for the plan varies depending on the number of pages of the plan. A limited supply of this revision to the red-cockaded woodpecker recovery plan is also available from Ralph Costa, U.S. Fish and Wildlife Service, Department of Forest Resources, 261 Lehotsky Hall, Clemson University, Clemson, South Carolina 29634 (telephone 864/656-2432). Additionally, the plan is available on the Clemson Field Office Web site at http://rcwrecovery.fws.gov.

FOR FURTHER INFORMATION CONTACT: Mr. Ralph Costa at the above address and telephone number.

SUPPLEMENTARY INFORMATION:

Background

Restoring endangered or threatened animals or plants to the point where they are again secure, self-sustaining members of their ecosystems is a primary goal of our endangered species program. To help guide the recovery effort, we are working to prepare recovery plans for most of the listed species native to the United States. Recovery plans describe actions considered necessary for conservation of the species, establish criteria for downlisting or delisting them, and estimate time and cost for implementing the recovery measures needed.

The Endangered Species Act of 1973, as amended (16 U.S.C. 1531 et seq.) (Act), requires the development of recovery plans for listed species unless such a plan would not promote the conservation of a particular species. Section 4(f) of the Act requires that during recovery plan development, we provide public notice and an opportunity for public review and comment. This revision to the recovery plan was released for public comment on September 13, 2000 (65 FR 55269), and the comment period was reopened on November 21, 2002 (67 FR 70237). Information presented during the comment periods has been considered in the preparation of this revision.

The red-cockaded woodpecker was listed as an endangered species in 1970 (35 FR 16047). This taxon is endemic to open, mature and old-growth pine ecosystems in the Southeastern United States. Currently, there are an estimated 14,068 red-cockaded woodpeckers living in 5,627 known active clusters across 11 States. It is estimated that pre-European settlement there were 1 to 1.5 million groups of red-cockaded woodpeckers. Limiting factors for the red-cockaded woodpecker are those that directly affect the number of potential breeding groups, because this is the primary determinant of population size and trend. Multiple factors currently impact the persistence of breeding groups and, therefore, population and species viability. Foremost among these are the factors that limit suitable nesting habitat, namely fire suppression and lack of cavity trees. Another factor directly limiting the number of potential breeding groups is habitat fragmentation and consequent isolation of groups, which results in disrupted dispersal of helpers and failure to replace breeders. There are several other threats to the existence and recovery of the species, not limiting most populations currently, but which will become more important as the current limitations are addressed. Chief among these are the degradation of foraging habitat through fire suppression and loss of mature trees, and the loss of valuable genetic resources because of small population size and isolation of populations.

The objective of this revision is to provide a framework for the recovery of the red-cockaded woodpecker so that protection under the Act is no longer necessary. As recovery criteria are met, the status of the species will be reviewed and it will be considered for removal from the List of Endangered and Threatened Wildlife (50 CFR part 17). The red-cockaded woodpecker will be considered for delisting when (1) there are 10 populations that each contain at least 350 potential breeding groups (400 to 500 active clusters), and 1 population that contains at least 1,000 potential breeding groups (1,100 to 1,400 active clusters) from among 13 designated primary core populations (see recovery plan for the list of primary core populations and the recovery units in which they are located); (2) there are 9 populations that each contain at least 250 potential breeding groups (275 to 350 active clusters), from among 10 designated secondary core populations (see recovery plan for the list of secondary core populations and the recovery units in which they are located); (3) there are at least 250 potential breeding groups (275 to 350 active clusters) distributed among designated essential support populations in the South/Central Florida Recovery Unit, and six of these populations (including at least two of the following—Avon Park Air Force Range, Big Cypress National Preserve, and Ocala National Forest) exhibit a minimum population size of 40 potential breeding groups; (4) the following populations are stable or increasing and each contain at least 100 potential breeding groups (110 to 140 active clusters)—(a) Northeast North Carolina/Southeast Virginia Essential Support Population of the Mid-Atlantic Coastal Plain Recovery Unit, (b) Talladega/Shoal Creek Essential Support Population of the Cumberlands/Ridge and Valley Recovery Unit, and (c) North Carolina Sandhills West Essential Support Population of the Sandhills Recovery Unit; and (5) for each of the populations meeting the above size criteria, responsible management agencies shall provide (a) a habitat management plan that is adequate to sustain the population and emphasizes frequent prescribed burning, and (b) a plan for continued population monitoring.

Authority: The authority for this action is section 4(f) of the Endangered Species Act, 16 U.S.C. 1533 (f).

Dated: March 5, 2003.
Sam D. Hamilton,
Regional Director.

[FR Doc. 03-6680 Filed 3-19-03; 8:45 am]

BILLING CODE 4310-55-P